GENERAL SERVICES ADMINISTRATION

[Notice-MV-2017-02; Docket 2017-0002; Sequence No. 8]

48 CFR Chapter V

Evaluation of Existing Leasing Acquisition Regulations

AGENCY: General Services Administration (GSA).

ACTION: Request for comments.

SUMMARY: In accordance with Executive Order 13777, “Enforcing the Regulatory Reform Agenda,” GSA is seeking input on lease acquisition regulations, policies, and guidance issued by GSA across all of its leasing programs that may be appropriate for repeal, replacement, or modification.

DATES: Comments must be received on or before July 31, 2017.

ADDRESSES: Submit comments identified by “Notice-MV-2017-02, Evaluation of Existing Leasing Acquisition Regulations” by any of the following methods:

• Regulations.gov: http://www.regulations.gov. Submit comments via the Federal eRulemaking portal by searching for Notice-MV-2017-02, Evaluation of Existing Regulations. Select the link “Comment Now” that corresponds with “Notice-MV-2017-02, Evaluation of Existing Leasing Regulations.” Follow the instructions provided on the screen. Please include your name, company name (if any), and “Notice-MV-2017-02, Evaluation of Existing Leasing Regulations” on your attached document.

• Google form found at: https://goo.gl/forms/4ilmzTHJ2HhDcmG23. If you are commenting via the google form, please note that each regulation or part that you are identifying for repeal, replacement or modification should be entered into the form separately. This will assist GSA in its tracking and analysis of the comments received.

• Mail: General Services Administration, Regulatory Secretariat Division (MVCB), 1800 F Street NW., Washington, DC 20405.

FOR FURTHER INFORMATION CONTACT: Ms. Francine Serafin, 202-705-8659, or via email at francine.serafin@gsa.gov.

SUPPLEMENTARY INFORMATION: On February 24, 2017, President Trump signed Executive Order (E.O.) 13777, “Enforcing the Regulatory Reform Agenda,” which established a federal policy “to alleviate unnecessary regulatory burdens” on the American people. Section 3(a) of the E.O. directs federal agencies to establish a Regulatory Reform Task Force (Task Force). One of the duties of the Task Force is to evaluate existing regulations and “make recommendations to the agency head regarding their repeal, replacement, or modification.” The E.O. further asks that each Task Force “attempt to identify regulations that:

(i) Eliminate jobs, or inhibit job creation;

(ii) are outdated, unnecessary, or ineffective;

(iii) impose costs that exceed benefits;

(iv) create a serious inconsistency or otherwise interfere with regulatory reform initiatives and policies;

(v) are inconsistent with the requirements of section 515 of the Treasury and General Government Appropriates Act, 2001 (44 U.S.C. 3516 note), or the guidance issued pursuant to that provision in particular those regulations that rely in whole or in part on data, information, or methods that are not publicly available or that are insufficiently transparent to meet the standard of reproducibility; or

(vi) derive from or implement Executive Orders or other Presidential directives that have been subsequently rescinded or substantially modified.”

Section 3(e) of the E.O. calls on the Task Force to “seek input and other assistance, as permitted by law, from entities significantly affected by Federal regulations, including State, local, and tribal governments, small businesses, consumers, non-governmental organizations, and trade associations” on regulations that meet some or all of the criteria above. Through this notice, GSA is soliciting such input from the public to inform its Task Force's evaluation. This notice is specifically requesting input on existing lease acquisition regulations, policies, and guidance issued by GSA (e.g., GSAR, GSA Leasing Desk Guide, GSA Lease Acquisition Circulars, GSA Leasing Alerts, and GSA Realty Services Letters). Examples of lease acquisition regulations, policies, and guidance GSA is requesting input on include the GSA Acquisition Regulations (GSAR), the GSA Acquisition Manual (GSAM), the GSA Leasing Desk Guide, GSA Lease Acquisition Circulars, GSA Leasing Alerts, GSA Realty Services Letters, or other GSA leasing related acquisition policies, standards, and guidance that have not been codified through regulation, but may be still be appropriate for repeal, replacement, or modification.

GSA requests that comments be as specific as possible, include any supporting data or other information such as cost information, provide a Federal Register (FR), GSAM, GSAR, Code of Federal Regulations (CFR) citation, GSA Leasing Desk Guide chapter and page, GSA Lease Acquisition Circular number, GSA Leasing Alert number, or GSA Realty Services Letter number when referencing a specific lease acquisition regulation, policy, or guidance. To be beneficial, comments should provide specific suggestions regarding repeal, replacement, or modification. Although the agency may not respond to each individual comment, the GSA values public feedback and will give careful consideration to all input that it receives.

GSA will also be conducting targeted outreach on this same topic. GSA intends to consider all GSA regulations for repeal, replacement, or modification under the guiding principles of EO 13777.

Dated: May 23, 2017.
Michael Downing,
Regulatory Reform Officer, Office of the Administrator.

[FR Doc. 2017-11051 Filed 5-26-17; 8:45 am]

BILLING CODE 6820-61-P